NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 28, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Animal and Plant Health Inspection Service (N1-463-09-9, 1 item, 1 temporary item). Master files of an electronic information system containing license, registration, and inspection data on businesses and organizations that buy, sell, exhibit, transport, or conduct research on animals.

2. Department of Agriculture, Farm Service Agency (N1-145-11-1, 1 item, 1 temporary item). Master files of an electronic information system used to track and disperse operating expense funds to farmers, vendors, and service center offices.

3. Department of Agriculture, Risk Management Agency (N1-258-10-2, 1 item, 1 temporary item). Master files of an electronic information system used to control the maintenance, use, and disposition of agency records to facilitate preservation, retrieval and use.

4. Department of the Army, Agency-wide (N1-AU-10-99, 1 item, 1 temporary item). Master files of an electronic information system that enables web-based ordering and tracking of subscriptions and Army publications.

5. Department of Commerce, Bureau of the Census (N1-29-10-1, 12 items, 10 temporary items). Records relating to the conduct of the Survey of Business Owners and Self-Employed Persons, including data processing records, special tabulations, correspondences, operation files, monthly activity reports, and working papers. Proposed for permanent retention are file documentation for electronic files designated as permanent and publications derived from survey data.

6. Department of Commerce, Bureau of Economic Analysis (N1-375-10-4, 10 items, 7 temporary items). Records of the National Income and Wealth Division, including general correspondence, data files, spreadsheets, secondary source materials, review packages, supporting papers, and processed materials. Proposed for permanent retention are program records documenting mission-related activities including memoranda, statement of procedures, data system documentation, special studies, and reports.

7. Department of Commerce, National Telecommunications and Information Administration (N1-417-10-1), 51 items, 47 temporary items). Records of agency program offices, including invitations, website updates, budget files, formulation files, submissions, subject files, chronological files, schedule books, calendars, and working papers. Proposed for permanent retention are agency publications, high-level speeches and testimonies of agency officials, and Institute for Telecommunication Sciences history records.

8. Department of Commerce, National Institute of Standards and Technology (N1-167-11-2, 2 items, 2 temporary items). Records of the Construction Grant Program, including proposal packages, merit reviews, initial letters of intent, budget information, applicant correspondence, final selection outcomes, and the master files of an electronic information system used as a central repository for competition-specific data.

9. Department of Commerce, Office of Inspector General (N1-40-10-1, 8 items, 7 temporary items). Records of the Office of Counsel, including case files, opinions, interpretations, chronological files, audit review files, review files, subpoena logs, and routine office correspondence files. Proposed for permanent retention are legal opinions and interpretations.

10. Department of Commerce, Office of the Inspector General, (N1-40-10-2, 2 items, 1 temporary item). Chronological files of the Immediate Office of the Inspector General. Proposed for permanent retention are subject program operations files and correspondence.

11. Department of Defense, Office of the Secretary of Defense, (N1-330-10-4, 3 items, 3 temporary items). Records relating to Pentagon force protection projects including contracts, cost estimates, budget requests, and program objective memoranda.

12. Department of Defense, Office of the Secretary of Defense, (N1-330-10-5, 2 items, 2 temporary items). Records relating to fraud, waste, and abuse hotline investigative case files including general correspondence, interviews, and reports of findings.

13. Department of Defense, Office of the Secretary of Defense, (N1-330-10-6, 5 items, 1 temporary item). Records relating to the Special Inspector General For Iraq Reconstruction, including routine hotline investigative case files pertaining to waste, fraud, and abuse, general correspondence, notes, and working files. Proposed for permanent retention are investigative case files of historical significance.

14. Department of Defense, Office of the Secretary of Defense (N1-330-10-7, 1 item, 1 temporary item). Master files of an electronic information system containing records relating to civilian personnel injury claims including applications, examinations, treatment histories, and investigative files.

15. Department of Defense, Office of the Secretary of Defense (N1-330-10-8, 1 item, 1 temporary item). Master files of an electronic information system containing profile data on military dependent schools including number of student enrollments, demographic data, testing results, and staff background information.

16. Department of Education, Office of Postsecondary Education, (N1-441-09-24, 2 items, 2 temporary items). Records relating to the Department of Education's Organizational Assessment. Records include strategic plans; principal office improvement plans and contingency plans; progress reports; surveys and interviews; communication plans; and documentation of scores, results, priorities, and measures. Also included are master files of an electronic information system used to support the assessment process containing survey and interview results, agency reports, and strategic plans.

17. Department of Energy, Federal Energy Regulatory Commission (N1-138-11-1, 3 items, 2 temporary items). Master files of an electronic information system and associated records relating to drafts and revisions to agency orders, including process selections, administrative detail, participant lists and related information. Proposed for permanent retention are outputs from the system containing final orders, voting logs, and associated records.

18. Department of Health and Human Services, Centers for Medicare and Medicaid Services (N1-440-09-4, 4 items, 4 temporary items). Master files of electronic systems used to support the Medicare Part D program (prescription drug coverage), containing beneficiary information, prescription drug records, claims, and capitation rate records. Permanent records are captured in the Integrated Data Repository system.

19. Department of Homeland Security, Immigration and Customs Enforcement (N1-567-11-7, 1 item, 1 temporary item). Master files of an electronic information system containing information on the custody status of detainees.

20. Department of Justice, Agency-wide (N1-60-10-12, 5 items, 2 temporary items). Routine event recordings and photographs of agency events and programs. Proposed for permanent retention are photographs and video recordings that document significant actions relating to the agency's mission and the actions of the Attorney General.

21. Department of Justice, Federal Bureau of Investigation (N1-65-10-38, 4 items, 4 temporary items). Master files and related records of an electronic information system used to track and manage information on visitors to the agency's facilities.

22. Department of Justice, Federal Bureau of Investigation (N1-65-10-39, 2 items, 2 temporary items). Audit logs recording activities of users in the agency's electronic systems.

23. Department of Justice, Federal Bureau of Investigation (N1-65-11-3, 3 items, 3 temporary items). This schedule increases the retention period from 50 years to 110 years for data files maintained in the National Crime Information Center. Also included are requests for access to the system and a database of originating agencies.

24. Department of Justice, Federal Bureau of Investigation (N1-65-11-10, 1 item, 1 temporary item). File Review Sheets used to track caseload workflow and performance deadlines.

25. Department of Justice, Justice Management Division (N1-60-11-9, 3 items, 3 temporary items). Human resource policy records, including compensation waivers, records relating to salary determination, and position coverage determinations.

26. Department of Justice, Office of the Attorney General (N1-60-11-10, 3 items, 3 temporary items.) Incomplete microfilm copies of paper records scheduled as permanent under N1-60-94-2.

27. Department of Justice, Office of General Counsel (N1-60-11-7, 1 item, 1 temporary item). Master files of an electronic information system used to track the status of incoming correspondence and other items for review.

28. Department of State, Bureau of Democracy, Human Rights, and Labor (N1-059-09-38, 1 item, 1 temporary item). Master files of an electronic information system used to vet training requests for foreign security forces.

29. Department of State, Bureau of Diplomatic Security (N1-84-10-1, 25 items, 25 temporary items). Records of the Office of Diplomatic Courier Service relating to the delivery of diplomatic pouches such as courier checklists, pouch invoices, transportation request files, vendor contract files, and vehicle registration files.

30. Department of State, Bureau of Diplomatic Security (N1-59-10-24, 3 items, 2 temporary items). Records include regional and geographic assessments of threats against Americans; U.S. diplomatic and consular personnel and facilities; and a list of categories of security threats by country. Proposed for permanent retention are annual reports on political violence against Americans.

31. Department of State, Bureau of Diplomatic Security (N1-59-10-25, 2 items, 2 temporary items). Records of the Diplomatic Security Command Center's initial reporting on domestic and overseas security incidents, including brief summaries of possible security incidents and daily multiple-source synopses of events and concerns in countries around the world. Permanent, substantive reports on security concerns and incidents are captured elsewhere in the bureau's records.

32. Department of Transportation, Federal Highway Administration (N1-406-09-26, 22 items, 20 temporary items). Planning and program development records of the Federal Aid program, including airport access files, annual statistical data, Appalachian development highway system program records, certification of public mileage, coastal zone management files, coal haul road study files, smart growth files, economic studies and surveys, State-wide transportation improvement program and transportation improvement plans files, Federal Aid system files, map files, metropolitan planning organizations files, State-wide planning and research status reports, public transportation files, non-motorized needs files, State obligations, highway systems correspondence, State traffic count data and size and weight program files. Proposed for permanent retention are planning and research subject files and National Scenic Byways studies.

33. Environmental Protection Agency, Agency-wide (N1-412-10-2, 2 items, 2 temporary items). Case files of the Environmental Alternative Dispute Resolution Program.

34. Export-Import Bank of the United States, Agency-wide (N1-275-10-7, 1 item, 1 temporary item). Copies of Department of State cables used by the agency for informational purposes.

35. National Aeronautics and Space Administration, Agency-wide (N1-255-09-2, 1 item, 1 temporary item). Records relating to general employee suggestions including background papers, suggestions, approvals, disapprovals, and review processes.

36. National Aeronautics and Space Administration, Agency-wide (N1-255-10-3, 6 items, 5 temporary items). Records relating to the agency's education programs including education packages, project descriptions, funding sources, participant records, and survey responses. Proposed for permanent retention are curriculum materials.

Dated: February 17, 2011.
Michael J. Kurtz,
Assistant Archivist for Records Services—Washington, DC.

[FR Doc. 2011-4264 Filed 2-23-11; 8:45 am]

BILLING CODE 7515-01-P